INTERNATIONAL TRADE COMMISSION

[Investigation No. 337-TA-1059]

Certain Digital Cameras, Software, and Components Thereof: Notice of Commission Determination To Grant a Joint Motion To Terminate the Investigation on the Basis of a Settlement Agreement; Termination of Investigation

AGENCY: U.S. International Trade Commission.

ACTION: Notice.

SUMMARY: Notice is hereby given that the U.S. International Trade Commission has determined to grant a joint motion to terminate the above-captioned investigation based upon a settlement agreement. The investigation is terminated.

FOR FURTHER INFORMATION CONTACT: Megan M. Valentine, Office of the General Counsel, U.S. International Trade Commission, 500 E Street SW, Washington, DC 20436, telephone (202) 708-2301. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on June 2, 2017, based on a complaint filed by Carl Zeiss AG of Oberkochen, Germany, and ASML Netherlands B.V. of Veldhoven, Netherlands (collectively, “Complainants”). 82 FR 25627-28. The complaint alleges violations of section 337 of the Tariff Act of 1930, as amended, 19 U.S.C. 1337 (“section 337”), in the importation into the United States, the sale for importation, and the sale within the United States after importation of certain digital cameras, software, and components thereof that infringe U.S. Patent Nos. 6,301,440 (“the '440 patent”); 6,463,163 (“the '163 patent”); 6,714,241 (“the '241 patent”); 6,731,335 (“the '335 patent”); 6,834,128 (“the '128 patent”); 7,297,916 (“the '916 patent”); and 7,933,454 (“the '454 patent”). Id. The complaint further alleges that a domestic industry exists in the United States. The Commission's notice of investigation named as respondents Nikon Corporation of Tokyo, Japan; Sendai Nikon Corporation of Natori, Japan; Nikon Inc. of Melville, New York; Nikon (Thailand) Co., Ltd. of Ayutthaya, Thailand; Nikon Imaging (China) Co., Ltd. of Wuxi, China (collectively, “Respondents”); and PT Nikon Indonesia of Jakarta, Indonesia. Id. at 25627. The Office of Unfair Import Investigations is not participating in this investigation. Id.

The Commission previously terminated the investigation as to PT Nikon Indonesia. Order No. 36 (Dec. 27, 2017) (unreviewed Notice (Jan. 19, 2018)). The Commission also subsequently terminated from the investigation all claims of the '163 and '335 patents and certain claims of the '440, '241, '128, '916, and '454 patents. Order No. 23 (Oct. 3, 2017) (unreviewed Notice (Oct. 17, 2017)); Order No. 32 (Nov. 22, 2017) (unreviewed Notice (Dec. 19, 2017)); Order No. 45 (Feb. 5, 2018) (unreviewed Notice (Mar. 6, 2018)); Order No. 65 (Mar. 27, 2018) (unreviewed Notice (Apr. 25, 2018)); Order No. 67 (Apr. 13, 2018) (unreviewed Notice (May 4, 2018)).

On August 17, 2018, the final ID issued finding a violation of section 337. The final ID also contains the ALJ's recommended determination on remedy and bonding. On November 15, 2018, the Commission determined to review the final ID in part. 83 FR 58592-94 (Nov. 20, 2018).

On February 22, 2019, Complainants and Respondents filed a joint motion to terminate the present investigation pursuant to section 210.21(b) of the Commission Rules of Practice and Procedure (19 CFR. 210.21(b)), based on a settlement agreement that resolves all pending legal disputes between the parties. The motion included a confidential and public version of the settlement agreement. No party filed a response to the motion.

The Commission has determined to grant the joint motion to terminate the investigation. Section 337(c) provides, in relevant part, that the Commission may terminate an investigation “on the basis of an agreement between the private parties to the investigation.” When the investigation is before the Commission, as is the case here, the Commission has acted on motions to terminate on the basis of settlement. See, e.g., Certain Wireless Consumer Electronics Devices and Components Thereof, Inv. No. 337-TA-853, Notice of Commission Determination to Grant the Consent Motion to Terminate the Investigation-In-Part as to Respondents Kyocera Corporation And Kyocera Communications, Inc. on the Basis of a Settlement Agreement (Sept. 20, 2013). Commission Rule 210.21(b), which implements section 337(c), requires that a motion for termination based upon a settlement contain a copy of that settlement agreement, as well as a statement that there are no other agreements, written or oral, express or implied, between the parties concerning the subject matter of the investigation. The joint motion complies with these requirements.

The Commission also considers the public interest when terminating an investigation based upon a settlement agreement. 19 CFR. 210.50(b)(2). We find no evidence that termination of the investigation will prejudice the public interest or that settlement will adversely impact the public health and welfare, competitive conditions in the United States economy, the production of like or directly competitive articles in the United States, or United States consumers. Moreover, the public interest favors settlement to avoid needless litigation and to conserve public and private resources.

Accordingly, the Commission hereby grants the joint motion to terminate this investigation on the basis of a settlement agreement.

The authority for the Commission's determination is contained in section 337 of the Tariff Act of 1930, as amended (19 U.S.C. 1337), and in part 210 of the Commission's Rules of Practice and Procedure (19 CFR part 210).

By order of the Commission.
Issued: March 8, 2019.
William Bishop,
Supervisory Hearings and Information Officer.

[FR Doc. 2019-04722 Filed 3-13-19; 8:45 am]

BILLING CODE 7020-02-P